DEPARTMENT OF ENERGY

Federal Energy Regulatory Commission

Combined Notice of Filings #1

Take notice that the Commission received the following electric rate filings:

Docket Numbers: ER10-2881-031; ER10-2882-033; ER10-2883-031; ER10-2884-031; ER10-2885-031; ER10-2641-030; ER10-2663-031; ER10-1874-005; EL18-21-000.

Applicants: Alabama Power Company, Southern Power Company, Mississippi Power Company, Georgia Power Company, Gulf Power Company, Oleander Power Project, LP, Southern Company-Florida LLC, Mankato Energy Center, LLC.

Description: Sensitivity Analysis for Simultaneous Import Limit Study of Southern Company Services, Inc.

Filed Date: 1/16/18.

Accession Number: 20180116-5147.

Comments Due: 5 p.m. ET 2/6/18.

Docket Numbers: ER18-748-000.

Applicants: Southwest Power Pool, Inc.

Description: § 205(d) Rate Filing: Cost Recovery Filing on Behalf of American Electric Power Service Corp. to be effective 4/1/2018.

Filed Date: 1/30/18.

Accession Number: 20180130-5230.

Comments Due: 5 p.m. ET 2/20/18.

Docket Numbers: ER18-749-000.

Applicants: NSTAR Electric Company.

Description: Compliance filing: Succeeded Documents Refiled to be effective 3/31/2018.

Filed Date: 1/30/18.

Accession Number: 20180130-5286.

Comments Due: 5 p.m. ET 2/20/18.

Docket Numbers: ER18-750-000.

Applicants: PJM Interconnection, L.L.C.

Description: § 205(d) Rate Filing: Tariff Revisions re: Transmission Service Planning Studies to be effective 4/1/2018.

Filed Date: 1/30/18.

Accession Number: 20180130-5296.

Comments Due: 5 p.m. ET 2/20/18.

Docket Numbers: ER18-751-000.

Applicants: Western Massachusetts Electric Company.

Description: Tariff Cancellation: Cancellation of WMECO Tariff Database to be effective 3/31/2018.

Filed Date: 1/30/18.

Accession Number: 20180130-5297.

Comments Due: 5 p.m. ET 2/20/18.

Docket Numbers: ER18-752-000.

Applicants: Duke Energy Carolinas, LLC.

Description: § 205(d) Rate Filing: Amendments to SCPSA and CEPCI NITSA and Metering Agreements to be effective 1/1/2018.

Filed Date: 1/30/18.

Accession Number: 20180130-5304.

Comments Due: 5 p.m. ET 2/20/18.

Docket Numbers: ER18-753-000.

Applicants: Southwest Power Pool, Inc.

Description: § 205(d) Rate Filing: 1148R23 American Electric Power NITSA NOA to be effective 1/1/2018.

Filed Date: 1/31/18.

Accession Number: 20180131-5044.

Comments Due: 5 p.m. ET 2/21/18.

Docket Numbers: ER18-754-000.

Applicants: Southwest Power Pool, Inc.

Description: § 205(d) Rate Filing: 3391 Kansas City Board of Public Utilities PTP Agreement to be effective 1/1/2018.

Filed Date: 1/31/18.

Accession Number: 20180131-5046.

Comments Due: 5 p.m. ET 2/21/18.

Docket Numbers: ER18-755-000.

Applicants: PJM Interconnection, L.L.C.

Description: § 205(d) Rate Filing: Original WMPA SA No. 4911; Queue No. AC2-071 to be effective 1/26/2018.

Filed Date: 1/31/18.

Accession Number: 20180131-5053.

Comments Due: 5 p.m. ET 2/21/18.

Docket Numbers: ER18-756-000.

Applicants: PJM Interconnection, L.L.C.

Description: § 205(d) Rate Filing: Original WMPA SA No. 4913; Queue No. AC2-113 to be effective 1/26/2018.

Filed Date: 1/31/18.

Accession Number: 20180131-5061.

Comments Due: 5 p.m. ET 2/21/18.

Docket Numbers: ER18-757-000.

Applicants: Southwest Power Pool, Inc.

Description: § 205(d) Rate Filing: Revisions to Close Gaming Issue Related to Regulation Deployment Adjustment to be effective 5/1/2018.

Filed Date: 1/31/18.

Accession Number: 20180131-5078.

Comments Due: 5 p.m. ET 2/21/18.

Docket Numbers: ER18-758-000.

Applicants: PJM Interconnection, L.L.C.

Description: Tariff Cancellation: Notice of Cancellation of WMPA SA No. 2975; Queue No. W1-082 to be effective 1/30/2018.

Filed Date: 1/31/18.

Accession Number: 20180131-5080.

Comments Due: 5 p.m. ET 2/21/18.

Docket Numbers: ER18-759-000.

Applicants: Imperial Valley Solar 1, LLC.

Description: § 205(d) Rate Filing: COC LGIA Co-Tenancy to be effective 2/1/2018.

Filed Date: 1/31/18.

Accession Number: 20180131-5124.

Comments Due: 5 p.m. ET 2/21/18.

Docket Numbers: ER18-760-000.

Applicants: Arizona Public Service Company.

Description: § 205(d) Rate Filing: Service Agreement No. 362, City of Williams NITS to be effective 1/1/2018.

Filed Date: 1/31/18.

Accession Number: 20180131-5127.

Comments Due: 5 p.m. ET 2/21/18.

Docket Numbers: ER18-761-000.

Applicants: PJM Interconnection, L.L.C.

Description: § 205(d) Rate Filing: 4th Quarter 2017 Revisions to OA, Sch. 12 and RAA, Sch. 17 Member Lists to be effective 12/31/2017.

Filed Date: 1/31/18.

Accession Number: 20180131-5132.

Comments Due: 5 p.m. ET 2/21/18.

Docket Numbers: ER18-762-000.

Applicants: Southwest Power Pool, Inc.

Description: § 205(d) Rate Filing: 3396 Otter Tail Power Company NITSA and NOA to be effective 1/1/2018.

Filed Date: 1/31/18.

Accession Number: 20180131-5139.

Comments Due: 5 p.m. ET 2/21/18.

Docket Numbers: ER18-763-000.

Applicants: Southwest Power Pool, Inc.

Description: § 205(d) Rate Filing: 3397 Otter Tail Power Company NITSA and NOA to be effective 1/1/2018.

Filed Date: 1/31/18.

Accession Number: 20180131-5171.

Comments Due: 5 p.m. ET 2/21/18.

Docket Numbers: ER18-764-000.

Applicants: Alabama Power Company.

Description: § 205(d) Rate Filing: O'Neal Solar LGIA Filing to be effective 1/17/2018.

Filed Date: 1/31/18.

Accession Number: 20180131-5188.

Comments Due: 5 p.m. ET 2/21/18.

Docket Numbers: ER18-765-000.

Applicants: Michigan Electric Transmission Company, LLC.

Description: § 205(d) Rate Filing: Filing of A&R Letter Agreement re O&M with Holland BPW to be effective 2/1/2018.

Filed Date: 1/31/18.

Accession Number: 20180131-5198.

Comments Due: 5 p.m. ET 2/21/18.

Docket Numbers: ER18-766-000.

Applicants: Pacific Gas and Electric Company.

Description: Notice of Termination of Small Generator Interconnection Agreement No. 364 of Pacific Gas and Electric Company.

Filed Date: 1/31/18.

Accession Number: 20180131-5200.

Comments Due: 5 p.m. ET 2/21/18.

Docket Numbers: ER18-767-000.

Applicants: New England Power Pool Participants Committee.

Description: § 205(d) Rate Filing: Feb 2018 Membership Filing to be effective 1/1/2018.

Filed Date: 1/31/18.

Accession Number: 20180131-5209.

Comments Due: 5 p.m. ET 2/21/18.

Docket Numbers: ER18-768-000.

Applicants: Pacific Gas and Electric Company.

Description: § 205(d) Rate Filing: Q4 2017 Quarterly Filing of City and County of San Francisco's WDT SA (SA 275) to be effective 12/31/2017.

Filed Date: 1/31/18.

Accession Number: 20180131-5229.

Comments Due: 5 p.m. ET 2/21/18.

Docket Numbers: ER18-769-000.

Applicants: Southwest Power Pool, Inc.

Description: § 205(d) Rate Filing: Charges in NITS for Deliveries of Federal Power-Southwestern in Pricing Zone 10 to be effective 4/1/2018.

Filed Date: 1/31/18.

Accession Number: 20180131-5246.

Comments Due: 5 p.m. ET 2/21/18.

Take notice that the Commission received the following electric securities filings:

Docket Numbers: ES18-23-000.

Applicants: AEP Appalachian Transmission Company, Inc., AEP Kentucky Transmission Company, Inc., AEP Southwestern Transmission Company, Inc., AEP West Virginia Transmission Company, Inc.

Description: Application under Section 204 of the Federal Power Act for Authorization to Issue Securities of AEP Appalachian Transmission Company, Inc., et al.

Filed Date: 1/30/18.

Accession Number: 20180130-5335.

Comments Due: 5 p.m. ET 2/20/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 31, 2018.
Nathaniel J. Davis, Sr.,
Deputy Secretary.

[FR Doc. 2018-02383 Filed 2-6-18; 8:45 am]

BILLING CODE 6717-01-P